INTERNATIONAL TRADE COMMISSION

[Investigation No. 332-588]

Foreign Trade Zones (FTZs): Effects of FTZ Policies and Practices on U.S. Firms Operating in U.S. FTZs and Under Similar Programs in Canada and Mexico; Proposed Information Collection; Comment Request; Foreign Trade Zones Questionnaire

AGENCY: United States International Trade Commission.

ACTION: Notice of request for public comments regarding a proposed data collection in Commission Investigation No. 332-588.

SUMMARY: In accordance with the provisions of the Paperwork Reduction Act of 1995, the U.S. International Trade Commission (Commission or USITC) hereby gives notice that it plans to submit a request for approval of a questionnaire to the Office of Management and Budget (OMB) for review and requests public comment on its draft proposed collection.

DATES: To assure that the Commission will consider your comments, it must receive them no later than 60 days after publication of this notice in the Federal Register.

ADDRESSES: All Commission offices are in the U.S. International Trade Commission Building, 500 E Street SW, Washington, DC. Due to the COVID-19 pandemic, the Commission's building is currently closed to the public. Once the building reopens, persons with mobility impairments who will need special assistance in gaining access to the Commission should contact the Office of the Secretary at 202-205-2000.

FOR FURTHER INFORMATION CONTACT: The project leaders for this investigation are Ann Marie Carton, Fernando Gracia, and Lin Jones. Please direct all written comments Ann Marie Carton at 202-205-2781 or via email at FTZ.investigation@usitc.gov.

The public record for this investigation may be viewed on the Commission's electronic docket (EDIS) at https://edis.usitc.gov. General information concerning the Commission may be obtained by accessing its internet address (https://www.usitc.gov). Hearing-impaired individuals are advised that information on this matter can be obtained by contacting the TDD terminal on 202-205-1810.

SUPPLEMENTARY INFORMATION: The information requested by the questionnaire is for use by the Commission in connection with Investigation No. 332-588, Foreign Trade Zones (FTZs): Effects of FTZ Policies and Practices on U.S. Firms Operating in U.S. FTZs and Under Similar Programs in Canada and Mexico, instituted under the authority of section 332(g) of the Tariff Act of 1930 (19 U.S.C. 1332(g)). This investigation and report were requested by the United States Trade Representative (USTR) on December 14, 2021. This investigation was initiated on January 26, 2022, and the notice of investigation was published in the Federal Register on January 31, 2022 (87 FR 4914). The Commission will deliver its report to USTR by April 14, 2023. As stated in the notice of investigation, the USTR requested that the Commission's report include detailed data and other information on firms operating in FTZs in the United States, and under similar programs in Canada, and Mexico. Such information is not available in the requested specificity from governmental and other public sources. The Commission indicated in its notice of investigation that it will need to obtain much of such data and information through a survey. The survey will assist the Commission in developing, as requested, an overview of economic activity and policies and practices in U.S. FTZs and under similar programs in Canada and Mexico, and the effects of those policies and practices on the cost competitiveness of products of firms operating in these programs. Similar programs in Canada include the Duties Relief Program, Drawback Program, Export Distribution Center Program, and Exporters of Processing Services Program. Similar programs in Mexico include Industria Manufacturera, Maquiladora y de Servicios de Exportación (IMMEX), Value Added Tax (VAT)/Special Tax on Production and Services (IEPS) Certification, Programa de Promoción Sectorial (PROSEC), Rule 8 (Regla 8), and Operadores Económicos Autorizados (OEA) (previously Nuevo Esquema de Empresas Certificadas (NEEC)).

Summary of Proposal: The Commission intends to submit the following draft information collection plan to OMB and invites public comment.

(1) Number of forms submitted: 1.

(2) Title of form: Foreign Trade Zones Questionnaire.

(3) Type of request: New.

(4) Frequency of use: Industry questionnaire, single data gathering, scheduled for 2022.

(5) Description of respondents: U.S. firms granted authority, and exercising this authority, to produce in a U.S. FTZ.

(6) Estimated number of respondents: 400.

(7) Estimated total number of hours to complete the questionnaire per respondent: 20 hours.

(8) Information obtained from the questionnaire that qualifies as confidential business information will be so treated by the Commission and not disclosed in a manner that would reveal the individual operations of a business.

Method of Collection: Respondents will be sent a letter with a link and individual code for accessing the online form. Once the online form is complete, respondents will be directed to submit the form by selecting a submit button.

Request for Comments: Comments are invited on (1) the draft questionnaire; (2) whether the proposed collection of information is necessary; (3) the accuracy of the agency's estimate of the burden (including hours and cost) of the proposed collection of information; (4) ways to enhance the quality, utility, and clarity of the information to be collected; and (5) ways to minimize the burden of the collection of information on respondents, including through the use of automated collection techniques or other forms of information technology.

The draft questionnaire and other supplementary documents may be downloaded from the USITC website at https://www.usitc.gov/ftzinvestigation.

Comments submitted in response to this notice will be summarized and included in the request for OMB approval of this information collection; they will also become a matter of public record. As such proprietary or confidential business information should not be submitted as part of comments on the draft questionnaire.

By order of the Commission.

Issued: April 25, 2022.
Lisa Barton,
Secretary to the Commission.

[FR Doc. 2022-09115 Filed 4-27-22; 8:45 am]

BILLING CODE 7020-02-P